DEPARTMENT OF TRANSPORTATION

Federal Aviation Administration

Notice of Intent of Waiver With Respect to Land; Cable Union Airport, Cable, Wisconsin

AGENCY: Federal Aviation Administration (FAA), DOT.

ACTION: Notice.

SUMMARY: The FAA is considering a proposal to change parcel 41 (15.144 acres) and parcel 45 (1.704 acres) of airport land from aeronautical use to non-aeronautical use and to authorize the sale of airport property located at Cable Union Airport, Cable, WI. The aforementioned land is not needed for aeronautical use.

The Cable Union Airport is owned by the Towns of Cable, Drummond and Namakagon, WI, and operated by the Cable Union Airport Commission. The airport is located off Telemark Road approximately 2.5 miles east of the Town of Cable. The parcels of airport property that this notice is addressing are described as parcel 41 and 45. The parcels are located near the west end of turf runway 8/26 at the Airport.

Parcels 41 and 45 are not serving aeronautical purposes for the airport. Pending the release from aeronautical obligations of parcels 41 and 45 the sponsor anticipates disposing of the land and using the proceeds for aeronautical purposes.

DATES: Comments must be received on or before March 1, 2018.

ADDRESSES: Documents are available for review by appointment at the FAA Chicago Airports District Office, Robert Lee, Program Manager, 2300 East Devon Avenue, Des Plaines, IL 60018, Telephone: (847)294-7526/Fax: (847)294-7046.

Written comments on the Sponsor's request must be delivered or mailed to: Robert Lee, Program Manager, Federal Aviation Administration, Chicago Airports District Office, 2300 East Devon Avenue, Des Plaines, IL 60018, Telephone Number: (847)294-7526/FAX Number: (847)294-7046.

FOR FURTHER INFORMATION CONTACT: Robert Lee, Program Manager, Federal Aviation Administration, Chicago Airports District Office, 2300 East Devon Avenue, Des Plaines, IL 60018. Telephone Number: (847)294-7526/FAX Number: (847)294-7046.

SUPPLEMENTARY INFORMATION: In accordance with section 47107(h) of Title 49, United States Code, this notice is required to be published in the Federal Register 30 days before modifying the land-use assurance that requires the property to be used for an aeronautical purpose.

Parcel 41 is currently in use as a shooting range, operated by the Cable Rod and Gun Club. Parcel 45 is currently in use as McNaught Road, maintained by the Town of Cable. Parcel 41 and 45 were acquired as airport Parcel 15 by the Sponsors on March 18, 1971, as recorded in Volume 235, Page 285 of the official records of the Bayfield County, Wisconsin Register of Deeds.

The Sponsors proposed plan is to convey Parcel 41, currently not in use or needed for aeronautical purposes, to the Cable Rod and Gun Club for continued use as a shooting range. The plan for Parcel 45, currently not in use or needed for aeronautical purposes, is to convey it to the Town of Cable for continued use as a public roadway.

Prior to disposal there will be avigation easements established over Parcel 41 and 45. These easements will lie under the existing Part 77 surfaces for Runway 8, and will preserve the right of free and unobstructed flight for aircraft maneuvering about the Airport. It will restrict objects from penetrating into the Part 77 surface.

A full narrative appraisal for Parcel 41 has been established and has provided evidence the sponsor will be obtaining fair market value for this parcel. Parcel 45 was not appraised since its current use is roadway and is considered substandard for appraisal purposes. The sponsor considers the value of this parcel to be offset by the Town of Cables 50 plus years of maintenance and improvements at no cost to the airport.

The disposition of proceeds from the sale of the airport property will be in accordance with FAA's Policy and Procedures Concerning the Use of Airport Revenue, published in the Federal Register on February 16, 1999 (64 FR 7696).

This notice announces that the FAA is considering the release of the subject airport property at the Cable Union Airport, Cable, WI from federal land covenants, subject to a reservation for continuing right of flight as well as restrictions on the released property as required in FAA Order 5190.6B section 22.16. Approval does not constitute a commitment by the FAA to financially assist in the disposal of the subject airport property nor a determination of eligibility for grant-in-aid funding from the FAA.

Parcel 41

A part of the Southeast ¼ of the Northeast ¼ of Section 20, Township 43 North, Range 7 West, Town of Cable, Bayfield County, Wisconsin, described as follows:

Commencing at the East ¼ corner of said Section 20; Thence North 85°50′13″ West along the monumented South line of said Northeast ¼, 1317.25 feet to the monumented West line of said Southeast ¼ of the Northeast ¼; Thence North 0°08′21″ West along said monumented West Line, 224.91 feet to the monumented North line of the south 225 feet of said Southeast ¼ of the Northeast ¼; Thence South 85°50′26″ East along said monumented North line, 66.19 feet to the point of beginning; Thence North 0°08′21″ West, 1124.70 feet to the monumented North line of said Southeast ¼ of the Northeast ¼; Thence South 85°42′07″ East along said monumented North line of the Southeast ¼ of Northeast ¼, 728.00 feet; Thence South 0°00′58″ East, 616.02 feet; Thence South 83°57′40″ West, 326.35 feet; Thence South 0°08′21″ East, 448.87 feet to said North line of the South 225 feet of the Southeast ¼ of the Northeast ¼; Thence North 85°50′26″ West along said North line, 401.00 feet to the point of beginning.

Parcel 45

A part of the Southeast ¼ of the Northeast ¼ of Section 20, Township 43 North, Range 7 West, Town of Cable, Bayfield County, Wisconsin, described as follows:

Commencing at the East ¼ corner of said Section 20; Thence North 85°50′13″ West along the monumented South line of the Southeast ¼ of the Northeast ¼, 1317.25 feet to the monumented West line of said southeast ¼ of the Northeast ¼; Thence North 0°08′21″ West along said monumented West line, 224.91 feet to the monumented North line of the south 225 feet of the Southeast ¼ of the Northeast ¼ and the point of beginning; Thence continuing North 0°08′21″ West along the East line of Certified Survey Map No. 1095, recorded in the Bayfield County Register of Deeds, Bayfield County, Wisconsin, 1124.86 feet to the monumented North line of the Southeast ¼ of the Northeast ¼ of said Section 20; Thence South 85°42′07″ East along said monumented North line of the southeast ¼ of the Northeast ¼, 66.20 feet; Thence South 0°08′21″ East, 1124.70 feet to said monumented North line of the South 225 feet of the Southeast ¼ of the Northeast ¼; Thence North 85°50′26″ West along said monumented North line of the South 225 feet of the Southeast ¼ of the Northeast ¼, 66.19 feet to the point of beginning.

Issued in Des Plaines, IL, on January 11, 2018.
Deb Bartell,
Manager, Chicago Airports District Office, FAA, Great Lakes Region.

[FR Doc. 2018-01675 Filed 1-29-18; 8:45 am]

BILLING CODE 4910-13-P